SELECTIVE SERVICE SYSTEM

32 CFR Part 1665

Privacy Act; Implementation

AGENCY: Selective Service System

ACTION: Final rule; technical amendments.

SUMMARY: These technical amendments change the address for persons to request Agency records pertaining to them, the address for the location where remittances for fees shall be mailed or delivered, and the address to be used to request information available to the public or to former employers of registrants whenever an area office is closed. The current addresses listed under “Privacy Act Procedures” in the Code of Federal Regulations are outdated due to a change of location for the Agency's headquarters.

EFFECTIVE DATE: February 9, 2004.

FOR FURTHER INFORMATION CONTACT: Rudy Sanchez, Office of the General Counsel, Selective Service System, 1515 Wilson Boulevard, Arlington, VA 22209-2425. (703-605-4012).

SUPPLEMENTARY INFORMATION: The Selective Service considers this rule (32 CFR part 1665) to be a procedural rule which is exempt from the notice-and-comment under 5 U.S.C. 533 (b)(3)(A). This rule is not a significant rule for the purpose of Executive Order 12866 and has not bee reviewed by the Office of Management and Budget. As required by the Regulatory Flexibility Act, SSS certifies that these regulatory amendments will not have a significant impact on small business entities.

List of Subjects in 32 CFR Part 1665

Administrative practice and procedure, Privacy, Selective Service System.

For the reason set forth in the preamble, amend part 1665 of title 32 of the code of Federal Regulations as follows:

PART 1665—PRIVACY ACT PROCEDURES

1. The authority citation for part 1665 continues to reads:

Authority: Military Selective Service Act, 50 U.S.C. App. 451 et seq.; E.O. 11623.

§ 1665.1 [Amended]

2. In Sec. 1665.1 (a), revise “Director, Selective Service System, ATTN: Records Manager, Washington, DC 20435” to read, “Selective Service System, ATTN: Records Manager, Public & Intergovernmental Affairs, Arlington, VA 22209-2425.”

§ 1665.6 [Amended]

3. In Sec. 1665.6 (c)(3), revise “Washington, DC 20453” to read, “Arlington, VA 22209-2425.”

§ 1665.7 [Amended]

4. In Sec. 1665.7 (c), revise “Washington, DC 20435” to read, “Arlington, VA 22209-2425.”

Dated: December 22, 2003.
Lewis C. Brodsky,
Acting Director of Selective Service.

[FR Doc. 04-282 Filed 1-8-04; 8:45 am]

BILLING CODE 8015-01-M